DEPARTMENT OF JUSTICE

Notice of Lodging of Proposed Consent Decree Under the Clean Air Act

On August 1, 2023, the Department of Justice lodged a proposed Consent Decree with the United States District Court for the Eastern District of California in the lawsuit entitled United States v. Sinister Manufacturing Company, Inc., Civil Action No. 2:23-cv-01580-JDP.

The United States filed this lawsuit under the Clean Air Act (CAA). The United States' complaint names Sinister Manufacturing Company, Inc. (Sinister) as the defendant. The complaint requests civil penalties and injunctive relief for Sinister's alleged unlawful manufacture, sale, and offer for sale of aftermarket automotive devices that bypass, defeat or render inoperative emissions controls. Sinister signed the Consent Decree, under which it agrees to pay a $500,000 civil penalty based on its limited financial ability to pay. The Consent Decree also prohibits Sinister from making, selling or offering to sell defeat products, including delete tuners, and prevents Sinister from transferring intellectual property that would allow others to make such products. To ensure compliance with these requirements, Sinister will implement an internal training program and notify its distributors and former customers about the Consent Decree.

The publication of this notice opens a period for public comment on the Consent Decree. Comments should be addressed to the Assistant Attorney General, Environment and Natural Resources Division, and should refer to United States v. Sinister Manufacturing Company, Inc., D.J. Ref. No. 90-5-2-1-12092. All comments must be submitted no later than thirty (30) days after the publication date of this notice. Comments may be submitted either by email or by mail:

To submit comments: | Send them to:
By e-mail | pubcomment-ees.enrd@usdoj.gov.
By mail | Assistant Attorney General, U.S. DOJ—ENRD, P.O. Box 7611, Washington, DC 20044-7611.

During the public comment period, the Consent Decree may be examined and downloaded at this Justice Department website: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $12.50 (25 cents per page reproduction cost) payable to the United States Treasury.

Kathryn C. Macdonald,
Assistant Section Chief, Environmental Enforcement Section, Environment and Natural Resources Division.

[FR Doc. 2023-16883 Filed 8-7-23; 8:45 am]

BILLING CODE 4410-15-P